DEPARTMENT OF HEALTH AND HUMAN SERVICES

Indian Health Service

Office of Clinical and Preventive Services; Division of Behavioral Health; Domestic Violence Prevention Initiative; Sexual Assault Projects Expansion; Community Developed Models

Announcement Type: New.

Funding Announcement Number: HHS-2010-IHS-BHSA-0001.

Catalog of Federal Domestic Assistance Number(s): 93.933.

Key Dates: Application Deadline Date: June 11, 2010.

Review Date: June 21-23, 2010.

Earliest Anticipated Start Date: August 1, 2010.

I. Funding Opportunity Description

Statutory Authority

The Indian Health Service (IHS) is accepting competitive grant applications for the Sexual Assault Projects Expansion Community Developed Models for American Indian and Alaska Native (AI/AN) communities. This announcement is a limited targeted solicitation for urban Indian organizations as defined by Public Law 94-437, the Indian Healthcare Improvement Act (IHCIA), as amended, Title V Urban Health organization. This program is authorized under the Snyder Act, 25 U.S.C. 13, and 25 U.S.C. 1602(a), and 25 U.S.C. 1602(b)(9), (11), and (12); as well as 25 U.S.C. 1621h(m) of the Indian Health Care Improvement Act (IHCIA), Public Law 94-437, as amended. This program is described in the Catalog of Federal Domestic Assistance (CDFA) under 93.933.

Background

AI/AN women continue to suffer from the highest rate of violent victimization in the United States. Reports from the U.S. Department of Justice (DOJ) found that the rate of domestic violence (DV) and sexual assault (SA) among Native women has been reported to be the highest of any ethnic or racial group in the United States. The adverse health outcomes linked to the physical and psychological abuse make the health care settings and community programs critical places for identification and early intervention of abuse. SA consists of a wide range of conduct that may include pressured or coerced sex, sex by manipulation or threat, physically forced sex (rape), or sexual assault accompanied by physical violence. Victims may be coerced or forced to perform a kind of sex they do not want (e.g., sex with third parties, physically painful sex, sexual activity they find offensive, verbal degradation during sex, viewing sexually violent material) or at a time they do not want it (e.g., when exhausted, when ill, in front of children, after a physical assault, or when asleep). These behaviors may happen in many situations—by a married partner, or boyfriend, on a date, by a friend or an acquaintance, by a stranger or by a family member such as a parent, a sibling or a grandparent.

Prevalence

AI/AN women continue to suffer from the highest rate of violent victimization in the United States.¹ The incidence of DV and SA in Indian Country is staggering. Reports from the U.S. DOJ found that:

¹ Callie Rennison, Violent Victimization and Race, 1998-98; Lawrence A. Greenfield & Steven K. Smith, American Indians and Crime; Patricia Tjaden & Nancy Thoennes, U.S. Department of Justice, Full Report of the Prevalence, Incidence, and Consequences of Violence Against Women.

• Native women are more than 2.5 times more likely to be raped or sexually assaulted than women in the U.S. in general.

• According to a study by the DOJ's Bureau of Justice Statistics (BJS), American Indians are twice as likely to experience sexual assault crimes compared to all other races.

• Native women are five times more likely to be a DV homicide victim than the rest of the population.

• The Centers for Disease Control and Prevention Morbidity and Mortality Weekly Report survey dated 2008 indicated that 39 out of 100 AI/AN women have been victims of intimate partner violence (IPV) at some point in their lives.

• DOJ statistics indicate that 34.1 percent of AI/AN women (or one in three) will be raped during their lifetime; the comparable figure for the U.S. as a whole is less than one in five.

• Because some victims of violence choose not to report their SA experiences to law enforcement, SA prevalence is likely even higher.

Health Implications

In addition to injuries sustained by women during violent episodes, physical and psychological abuse is linked to a number of adverse health outcomes. The prevalence of abuse during pregnancy ranges from 7-20% and population-based data from 26 states indicates that African American and American Indian women are at greater risk for IPV than other racial groups. One study found that 58.7% of American Indian pregnant and childbearing women disclosed lifetime physical and/or sexual IPV.

The impact of domestic violence and sexual assault on women's reproductive health is pervasive but unrecognized. Pregnancy complications, including low weight gain, anemia, infections, and first and second trimester bleeding, are significantly higher for abused women, as are maternal rates of depression, post-traumatic stress disorder (PTSD), suicide attempts, and substance abuse. Domestic violence can also result in homicide and suicide. Homicide is the leading cause of traumatic death for pregnant and postpartum women in the United States, accounting for 31 percent of maternal injury deaths.²

² Chang, Jeani; Cynthia Berg; Linda Saltzgman; and Joy Herndon. 2005. Homicide: A Leading Cause of Injury Deaths Among Pregnant and Postpartum Women in the United States, 1991-1999. American Journal of Public Health. (95)3L471-477.

Other sexual and behavioral health implications are equally serious. Victims of domestic and sexual violence are more likely to experience: Coercive unprotected sex, birth control sabotage, unintended pregnancy, teen pregnancy, rapid repeat pregnancies, multiple abortions, sexually transmitted infections (STIs) including human immunodeficiency virus (HIV), substance abuse, depression, PTSD and suicidality—making the reproductive health, behavioral health and primary care settings critical places for identification, and early intervention of abuse.

Optimal management of other chronic illnesses including diabetes, hypertension, gastrointestinal disorders, HIV/acquired immune deficiency syndrome (AIDS), depression and substance use disorders can be problematic for women who either are, or have been abused. Oftentimes the perpetrator controls the victim's access to health care and compliance with medical protocols. Emerging research shows that women who are abused are less likely to engage in important preventive health care behaviors such as regular mammography and are more likely to participate in injurious health behaviors including smoking, alcohol and other drug abuse. Victims of DV also have difficulty accessing preventive care for their children including well-baby care and immunizations. Many studies have documented the fact that DV significantly increases the risk for depression, traumatic and PTSD, anxiety, and suicide. The adverse health outcomes related to domestic violence or sexual assault can continue for years after the abuse has ended.

Purpose of the Program

The purpose of the IHS Sexual Assault Projects Expansion Community Developed Models is to increase and expand the number of available sexual assault services, advocates, and community collaborations available in the urban AI/AN communities in the United States. It aims to improve the responsiveness of urban Indian organizations by establishing and sustaining programs that prevent SA against AI/AN.

For funding, the pilot sites must address the following seven guiding principles:

1. Coordinate services for urban communities to respond to local sexual assault crises;

(a) This may include outreach activities to coordinate accessibility of services to local Sexual Assault Nurse Examiner (SANE) programs.

(b) Provide local SANE programs with information on AI/AN culture and social issues.

(c) Assist SANE program in providing an adequate community response to AI/AN victims by establishing orientation/referral systems to support the various interventions available such as behavioral health, social services or victim of crime services that may be available through the urban Indian program.

2. Participate in a nationally coordinated program focusing specifically on increasing access to SA prevention or treatment services for survivors and their families;

3. Provide community-focused responses in the urban setting that enhance evidence-based or practice-based SA prevention or treatment services or education programming;

4. Provide communities with resources to develop their own urban based community-focused programs;

5. Establish baseline data in the local communities;

6. Adequately document the level of need for the urban Indian community, and;

7. Be scaled at a level that will ensure measureable impact.

In accordance with these project guidelines, the funding recipients must:

1. Develop the following types of activities in urban programs:

Sexual Assault Projects Expansion Community Developed Models—The Community Developed Models of collaboration and intervention may include case management, behavioral health services, victim advocacy, and community collaborations. The funding may also be used for the management of Sexual Assault Nurse Examiner (SANE), Sexual Assault Forensic Examiner (SAFE), and Sexual Assault Response Team (SART) activities that may include the involvement of community health aids, community health representatives, licensed practical nurses, and other non-medical community members.

2. Work with the IHS staff and National Domestic Violence Prevention Initiative (DVPI) Project Officer to develop a local process to measure specific outcome indicators as consistent with national Government Performance and Results Act (GPRA) and IHS Division of Behavioral Health (DBH) program requirements. The national outcome measures for this initiative are pending approval from the Office of Management and Budget (OMB). The funding recipient must report on applicable GPRA measures and national outcome indicators.

3. Employ the use of an information management system which is compatible with the Resource and Patient Management System (RPMS) and the RPMS Behavioral Health module or IHS Electronic Health Record. If the funding recipient is unable to utilize RPMS as an information management system, the funding recipient must demonstrate within the project proposal how they will satisfy data collection requirements.

II. Award Information

Type of Awards: Grant.

Estimated Funds Available: The total amount of funding identified for the current fiscal year 2010 is approximately $262,000. Competing and continuation awards issued under this announcement are subject to the availability of funds. In the absence of funding, the agency is under no obligation to make awards funded under this announcement.

Anticipated Number of Awards: Approximately 5 awards will be issued under this program announcement.

Project Period: Three years, and is subject to availability of funds

Award Amount: $52,400 per year.

III. Eligibility Information

1. Eligibility

This is a limited competition and eligible applicants must be: An urban Indian organization as defined by the P.L. 94-437, the Indian Healthcare Improvement Act (IHCIA), as amended, Title V Urban Health organization.

Justification: To improve the health and well being of all AI/ANs by strengthening urban Indian health programs, this targeted funding will expand mental health services to address SA and prevention services for AI/AN residing in urban areas.

2. Cost Sharing or Matching

The Sexual Assault Projects Expansion does not require matching funds or cost sharing.

3. Other Requirements

If the application budget exceeds the stated dollar amount that is outlined within this application, it will not be considered for review.

The following documentation is required:

Nonprofit urban IHS organizations must submit a copy of the 501(c)(3) certificate as proof of non-profit status.

IV. Application and Submission Information

1. Obtaining Application Materials

The application package and instructions may be located at http://www.Grants.gov or http://www.ihs.gov/NonMedicalPrograms/gogp/index.cfm?module=gogpfunding.

2. Content and Form of Application Submission

The applicant must include the project narrative as an attachment to the application package.

Mandatory documents for all applicants include:

• Application forms:

○ SF-424.

○ SF-424A.

○ SF-424B.

• Budget Narrative (must be single spaced and must not exceed 3 pages).

• Project Narrative (must not exceed 25 pages).

• Letter of Support from Organization's Board of Directors (IHCIA Title V Urban Indian Organizations).

• 501(c)(3) Certificate (IHCIA V Urban Indian Organizations).

• Biographical sketches for all Key Personnel.

• Disclosure of Lobbying Activities (SF-LLL) (if applicable).

• Documentation of current OMB A-133 required Financial Audit, if applicable. Acceptable forms of documentation include:

○ E-mail confirmation from Federal Audit Clearinghouse (FAC) that audits were submitted; or

○ Face sheets from all audit reports. These can be found on the FAC Web site: http://harvester.census.gov/fac/dissem/accessoptions.html?submit=Retrieve+Records.

Public Policy Requirements

All Federal-wide public policies apply to IHS grants with the exception of the Discrimination policy.

Requirements for Project and Budget Narratives

A. Project Narrative This narrative should be a separate Word document that is no longer than 25 pages (see page limitation for each Part noted below) with consecutively numbered pages. Be sure to place all responses and required information in the correct section or they will not be considered or scored. If the narrative exceeds the page limit, only the first 25 pages (3 pages for the Budget Narrative) will be reviewed. There are four parts to the narrative: Part A—Program Information; Part B—Program Planning and Evaluation; Part C—Program Report; and Part D—Budget. See below for additional details about what must be included in the narrative:

Part A: Program Information (not to exceed 5 pages)

Section 1: Needs.

Section 2: Organization Capacity .

Part B: Program Planning and Evaluation (not to exceed 12 pages)

Section 1: Program Plans.

Section 2: Program Evaluation.

Part C: Program Report (not to exceed 5 pages)

Section 1: Describe program's prior accomplishment(s).

Section 1: Describe program's prior successful activities.

Part D: Budget Narrative/Justification (not to exceed 3 pages)

This narrative must describe the budget requested and match the scope of work described in the project narrative.

The project narrative must be submitted in the following format:

• Maximum number of pages: 25. If your narrative exceeds the page limit, only the first pages which are within the page limit will be reviewed.

• Font size: 12 point unreduced.

• Single spaced.

• 8½″ x 11″ paper.

• Page margin size: One inch.

• Printed only on one side of page.

• Held together only by rubber bands or metal clips; not bound in any other way.

3. Submission Dates and Times

Applications must be submitted electronically through Grants.gov by June 11, 2010 at 12 midnight Eastern Standard Time (EST). Any application received after the application deadline will not be accepted for processing, and it will be returned to the applicant(s) without consideration for funding.

If technical challenges arise and assistance is required with the electronic application process, contact Grants.gov Customer Support via e-mail to support@grants.gov or at (800) 518-4726. Customer support is available to address questions 24 hours a day, 7 days a week (except on Federal holidays). If problems persist, contact Paul Gettys, Division of Grants Policy (DGP) (Paul.Gettys@ihs.gov) at (301) 443-5204. Please be sure to contact Mr. Gettys at least ten days prior to application deadline. Please do not contact the DGP until you have received a Grants.gov tracking number. In the event you are not able to obtain a tracking number, call the DGP as soon as possible.

If an applicant needs to submit a paper application instead of submitting electronically via Grants.gov, prior approval must be requested and obtained (see section on Electronic Submission Requirement for additional information). The waiver must be documented in writing (e-mails are acceptable), before submitting a paper application. A copy of the written approval must be submitted along with the hardcopy that is mailed to the DGO (Refer to Section IV to obtain the mailing address). Paper applications that are submitted without a waiver will be returned to the applicant without review or further consideration. Late applications will not be accepted for processing, will be returned to the applicant, and will not be considered for funding.

4. Intergovernmental Review

Executive Order 12372 requiring intergovernmental review is not applicable to this program.

5. Funding Restrictions

• Pre-award costs are not allowable pending prior approval from the awarding agency. However, in accordance with 45 CFR Part 74 and 92, pre-award costs are incurred at the recipient's risk. The awarding office is under no obligation to reimburse such costs if for any reason the applicant does not receive an award or if the award to the recipient is less than anticipated.

• The available funds are inclusive of direct and appropriate indirect costs.

• IHS will not acknowledge receipt of applications.

6. Electronic Submission Requirements

Use the http://www.Grants.gov Web site to submit an application electronically and select the “Apply for Grants” link on the homepage. Download a copy of the application package, complete it offline, and then upload and submit the application via the Grants.gov Web site. Electronic copies of the application may not be submitted as attachments to e-mail messages addressed to IHS employees or offices.

Applicants that receive a waiver to submit paper application documents must follow the rules and timelines that are noted below. The applicant must seek assistance at least ten days prior to the application deadline.

Applicants that do not adhere to the timelines for Central Contractor Registry (CCR) and/or Grants.gov registration and/or request timely assistance with technical issues will not be considered for a waiver to submit a paper application.

Please be aware of the following:

• Please search for the application package in Grants.gov by entering the CFDA number or the Funding Opportunity Number. Both numbers are located in the header of this announcement.

• Paper applications are not the preferred method for submitting applications. However, if you experience technical challenges while submitting your application electronically, please contact Grants.gov Support directly at: http://www.Grants.gov/CustomerSupport or (800) 518-4726. Customer Support is available to address questions 24 hours a day, 7 days a week (except on Federal holidays).

• Upon contacting Grants.gov, obtain a tracking number as proof of contact. The tracking number is helpful if there are technical issues that cannot be resolved and waiver from the agency must be obtained.

• If it is determined that a waiver is needed, you must submit a request in writing (e-mails are acceptable) to GrantsPolicy@ihs.gov with a copy to Tammy.Bagley@ihs.gov. Please include a clear justification for the need to deviate from our standard electronic submission process.

• If the waiver is approved, the application should be sent directly to the DGO by the deadline date of June 11, 2010.

• Applicants are strongly encouraged not to wait until the deadline date to begin the application process through Grants.gov as the registration process for CCR and Grants.gov could take up to fifteen working days.

• Please use the optional attachment feature in Grants.gov to attach additional documentation that may be requested by the DGO.

• All applicants must comply with any page limitation requirements described in this Funding Announcement.

After you electronically submit your application, you will receive an automatic acknowledgment from Grants.gov that contains a Grants.gov tracking number. The DGO will download your application from Grants.gov and provide necessary copies to the appropriate agency officials. Neither the DGO nor the DBH will notify applicants that the application has been received.

E-mail applications will not be accepted under this announcement.

Dun and Bradstreet (D&B) Data Universal Numbering System (DUNS)

Applicants are required to have a DUNS number to apply for a grant or cooperative agreement from the Federal Government. The DUNS number is a unique nine-digit identification number provided by D&B, which uniquely identifies your entity. The DUNS number is site specific; therefore each distinct performance site may be assigned a DUNS number. Obtaining a DUNS number is easy and there is no charge. To obtain a DUNS number, you may access it through the following Web site http://fedgov.dnb.com/webform or to expedite the process call (866) 705-5711.

Another important fact is that applicants must also be registered with the CCR and a DUNS number is required before an applicant can complete their CCR registration.

Registration with the CCR is free of charge. Applicants may register online at http://www.ccr.gov. Additional information regarding the DUNS, CCR, and Grants.gov processes can be found at: http://www.Grants.gov.

Applicants may register by calling 1(866) 606-8220. Please review and complete the CCR Registration worksheet located at http://www.ccr.gov.

V. Application Review Information

Points will be assigned to each evaluation criteria adding up to a total of 100 points. A minimum score of 65 points is required for funding. Points are assigned as follows:

Part A: Program Information (25 points)

Section 1: Needs (13 points).

Section 2: Organization Capacity (12 points).

Part B: Program Planning and Evaluation (55 points)

Section 1: Program Plans (30 points).

Section 2: Program Evaluation (25 points).

Part C: Program Report (18 points)

Section 1: Describe program's prior accomplishment(s) (9 points).

Section 1: Describe program's prior successful activities (9 points).

Part D: Budget (2 points)

Budget Narrative/Justification.

1. Evaluation Criteria

The Applicant will be evaluated to the extent the following criteria are described:

Part A: Project Information (25 points)

Section 1: Statement of Need (13 points).

• Provide an adequate baseline picture of the community. (8 points)

—Community assessment to include patient survey and findings (for example, use of the Delphi Instrument For Hospital-based Domestic Violence Programs or other such assessment tool).

• Identify your target population. (5 points)

—Provide a good description and justification for focusing on the identified target population.

Section 2: Organizational Capacity (12 points)

• Adequately describe the project staffing and position descriptions for those who will participate in the project, showing their qualifications, tasks/roles, experience and training, and time commitment. (4 points)

• Discuss the applicant organization's and other participating organizations' success and experience in SA prevention program management capability. (4 points)

• Describe the community infrastructure addressing SA prevention. (4 points)

Part B: Program Planning and Evaluation (55 points)

Section 1: Project Plan (30 points).

• Comprehensively describe the purpose, goals, objectives and activities of the proposed three year program to be implemented [Note: Program should utilize community-focused models that promote evidence-based or practiced-based SA prevention, treatment, educational and/or community awareness programming and provide communities with needed resources to develop community-focused programs with a preference toward coordinated programming that maximizes service delivery]. (4 points)

• Provide a timeline of activities (chart or graph) showing key activities, milestones, and responsible staff [Note: The timeline should be part of the project narrative. It should not be placed in an appendix]. (3 points)

• Describe how program will provide violence outreach services through use of victim advocates [Note: victim advocates must have completed victim advocacy training], respond to urgent and emergent request for victim advocacy; and develop/maintain/increase collaborative efforts with community partners. (2 points)

• Comprehensively describe and identify potential problem areas or barriers and propose solutions for sexual assault prevention. (3 points)

• Demonstration of how the SA programs will develop/maintain/increase collaborative efforts with any community partners. (2 points)

• Description of the process by which the development of a community-based SA outreach and education component will occur within the overall program. (2 points)

• Describe sustainability—describe how you plan to continue this program and activities past the three years of funding for this initiative. (2 points)

Section 2: Program Evaluation (25 points).

• List milestones and describe how they relate to the identified key activities included in your timeline. (3 points)

• The outcome measures that will be targeted will be announced by the IHS DBH program at a later date; therefore:

○ In your narrative state what your program cannot measure now, but state a willingness that your program will plan to work towards being able to do so. As stated in this announcement, the IHS staff and National DVPI Project Officer will work with grantees to develop a local process to measure specific indicators that are consistent with national GPRA and IHS DBH program requirements. Therefore, address possible solutions to the following:

• Describe how your program could establish baseline data and information related to SA in the local community; (5 points)

• Describe how your program's data collection and storage capacity could support surveillance; and, (3 points)

• If one exists, describe your local evaluation process in detail. (2 points)

• State a willingness to collaborate and submit data into the DVPI local and national evaluation process. (3 points)

• Demonstrate evidence of commitment to secure a qualified local evaluator/data collection/entry employee. (3 points)

• State a willingness to participate in a nationally coordinated program focusing on increasing access to SA-related activities. (3 points)

• State a willingness to attend monthly/quarterly SA conference calls. (3 points)

Part C: Progress Report (18 points)

Section 1: Describe program's prior accomplishment(s). (9 points)

• Describe your program's prior history of implementing successful SA services and/or other “new” initiatives. (5 points)

• Describe any key objectives that helped the program achieve the accomplishment(s). (4 points)

Section 1: Describe program's prior successful activities. (9 points)

• Describe what activities have been successful for your program in addressing this area of need and/or other such “new” initiatives. (5 points)

• Describe any key objectives that helped the program accomplish these activities. (4 points)

Part D: Budget (2 points)

Budget Narrative/Justification:

• The budget is reasonable and within established limits; (0.5 points)

• The budget calculations are clearly identified and accurate; (0.5 points)

• The budget does not include costs that would support activities that would compromise victim safety, (0.5 points) and;

• The budget costs are reflective of the goals and objectives of the project. (0.5 points)

2. Review and Selection Process

Each application will be prescreened by the DGO staff for eligibility and completeness as outlined in the funding announcement. Incomplete applications and applications that are non-responsive to the eligibility criteria will not be referred to the Objective Review Committee. Applicants will be notified by DGO, via letter, to outline the missing components of the application.

To obtain a minimum score for funding, applicants must address all program requirements and provide all required documentation. Applicants that receive less than a minimum score will be informed via e-mail of their application's deficiencies. A summary statement outlining the strengths and weaknesses of the application will be provided to these applicants. The summary statement will be sent to the Authorized Organizational Representative that is identified on the face page of the application.

VI. Award Administration Information

1. Award Notices

The Notice of Award (NoA) will be initiated by DGO and will be mailed via postal mail to each entity that is approved for funding under this announcement. The NoA will be signed by the Grants Management Officer and this is the authorizing document for which funds are dispersed to the approved entities. The NoA will serve as the official notification of the grant award and will reflect the amount of Federal funds awarded, the purpose of the grant, the terms and conditions of the award, the effective date of the award, and the budget/project period. The NoA is the legally binding document and is signed by an authorized grants official within the IHS.

2. Administrative Requirements

Grants are administered in accordance with the following regulations, policies, and OMB cost principles:

A. The criteria as outlined in this Program Announcement.

B. Administrative Regulations for Grants:

• 45 CFR part 92, Uniform Administrative Requirements for Grants and Cooperative Agreements to State, Local and Tribal Governments.

• 45 CFR part 74, Uniform Administrative Requirements for Grants and Agreements with Institutions of Higher Education, Hospitals, and other Non-profit Organizations.

C. Grants Policy:

• HHS Grants Policy Statement, Revised 01/07.

D. Cost Principles:

• Title 2: Grant and Agreements, Part 225—Cost Principles for State, Local, and Indian Tribal Governments (OMB A-87).

• Title 2: Grant and Agreements, Part 230—Cost Principles for Non-Profit Organizations (OMB Circular A-122).

E. Audit Requirements:

• OMB Circular A-133, Audits of States, Local Governments, and Non-profit Organizations.

3. Indirect Costs

This section applies to all grant recipients that request reimbursement of indirect costs in their grant application. In accordance with HHS Grants Policy Statement, Part II-27, IHS requires applicants to have a current indirect cost rate agreement prior to award. The rate agreement must be prepared in accordance with the applicable cost principles and guidance as provided by the cognizant agency or office. A current rate means the rate covering the applicable activities and the award budget period. If the current rate is not on file with the DGO at the time of award, the indirect cost portion of the budget will be restricted. The restrictions remain in place until the current rate is provided to the DGO.

Generally, indirect costs rates for IHS grantees are negotiated with the Division of Cost Allocation http://rates.psc.gov/ and the Department of the Interior (National Business Center) http://www.nbc.gov/acquisition/ics/icshome.html. If your organization has questions regarding the indirect cost policy, please contact the DGO at (301) 443-5204.

4. Reporting Requirements

The reporting requirements for this program are noted below.

A. Progress Report.

Semi-annual and annual program progress reports are required. These reports will include a brief comparison of actual accomplishments to the goals established for the period, or, if applicable, provide sound justification for the lack of progress, and other pertinent information as required. Copies of any materials developed shall be attached. Semi-annual progress reports must be submitted within 30 days of the end of the half year. An annual report must be submitted within 30 days after the end of the 12 month time period. A final report must be submitted within 90 days of expiration of the budget/project period.

B. Financial Reports

Semi-annual financial status reports must be submitted within 30 days of the end of the half year. Final financial status reports are due within 90 days of expiration of the budget/project period. Standard Form 269 (long form) will be used for financial reporting.

Federal Cash Transaction Reports are due every calendar quarter to the Division of Payment Management, Payment Management Branch (DPM, PMS). Please contact DPM/PMS at: http://www.dpm.psc.gov/ for additional information regarding your cash transaction reports. Failure to submit timely reports may cause a disruption in timely payments to your organization.

Grantees are responsible and accountable for accurate reporting of the Progress Reports and Financial Status Reports which are generally due semi-annually. Financial Status Reports (SF-269) are due 90 days after each budget period and the final SF-269 must be verified from the grantee records on how the value was derived. Grantees must submit reports in a reasonable period of time.

Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

Telecommunication for the hearing impaired is available at: TTY (301) 443-6394.

VII. Agency Contact(s)

Grants (Business), Kimberly Pendleton, Grants Management Officer, 801 Thompson Avenue, TMP, Suite 360, Rockville, MD 20852, Work: (301) 443-5204 or kimberly.pendleton@ihs.gov.

Program (Programmatic/Technical), Michelle S. Begay, Domestic Violence Prevention Initiative Project Officer, Division of Behavioral Health, Office of Clinical and Preventive Services, Indian Health Service Headquarters, 801 Thompson Avenue, Suite 300, Rockville, MD 20852, Work: (301) 443-2038, Fax: (301) 443-7623, E-mail: michelle.begay2@ihs.gov.

The Public Health Service strongly encourages all grant and contract recipients to provide a smoke-free workplace and promote the non-use of all tobacco products. In addition, Public Law 103-227, the Pro-Children Act of 1994, prohibits smoking in certain facilities (or in some cases, any portion of the facility) in which regular or routine education, library, day care, health care or early childhood development services are provided to children. This is consistent with the HHS mission to protect and advance the physical and mental health of the American people.

Dated: May 5, 2010.
Yvette Roubideaux,
Director, Indian Health Service.

[FR Doc. 2010-11198 Filed 5-11-10; 8:45 am]

BILLING CODE 4165-16-P